DEPARTMENT OF DEFENSE

GENERAL SERVICES ADMINISTRATION

NATIONAL AERONAUTICS AND SPACE ADMINISTRATION

48 CFR Chapter 1

[Docket No. FAR 2019-0001, Sequence No. 1]

Federal Acquisition Regulation; Federal Acquisition Circular 2019-02; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2019-02. A companion document, the Small Entity Compliance Guide (SECG), follows this FAC. The FAC, including the SECG, is available via the internet at http://www.regulations.gov.

DATES: For effective dates see the separate documents, which follow.

FOR FURTHER INFORMATION CONTACT: The analyst whose name appears in the table below in relation to the FAR case. Please cite FAC 2019-02 and the specific FAR case number. For information pertaining to status or publication schedules, contact the Regulatory Secretariat Division at 202-501-4755.

Rules Listed in FAC 2019-02
Item | Subject | FAR case | Analyst
I | Special Emergency Procurement Authority | 2017-009 | Francis.
II | Governmentwide and Other Interagency Contracts | 2018-015 | Delgado.
III | Technical Amendments. |  |

SUPPLEMENTARY INFORMATION: Summaries for each FAR rule follow. For the actual revisions and/or amendments made by these rules, refer to the specific item numbers and subjects set forth in the documents following these item summaries. FAC 2019-02 amends the FAR as follows:

Item I—Special Emergency Procurement Authority (FAR Case 2017-009)

This final rule amends the FAR to implement sections 816 and 1641 of the National Defense Authorization Act (NDAA) for Fiscal Year (FY) 2017 (Pub. L. 114-328). These sections of the NDAA allow for higher micro-purchase and simplified acquisition thresholds for acquisitions of supplies or services which support international disaster assistance, response to an emergency or major disaster, or defense against or recovery from a cyber attack.

Item II—Governmentwide and Other Interagency Contracts (FAR Case 2018-015)

DoD, GSA, and NASA are issuing a final rule amending the FAR to implement section 875 of the John S. McCain NDAA for FY 2019. This section removes the requirement for agencies to make a determination that the use of an interagency acquisition represents the best procurement approach. This final rule only removes a requirement for agencies to make a specific determination prior to utilizing a certain contracting method. The removal of this requirement only affects the internal operating procedures of the Government and has no impact on contractors.

Item III—Technical Amendments

Editorial changes are made at FAR 1.105-3, 1.201-1, 2.101, 3.103-2, 3.104-3, 3.301, 3.303, 3.405, 3.501-2, 3.502-1, 3.502-2, 3.8, 3.901, 3.907-7, subpart 4.1, 4.102, 4.201, 4.202, 4.402, 4.403, 4.404, 4.604, 4.607, 4.703, 4.801, 4.803, 4.804-1, 4.804-4, 4.804-5, 4.805, 4.1005-2, 4.1200, subpart 4.15, 4.1801, 5.207, 5.404-1, 5.501, 5.504, 5.601, 5.705, 6.001, 6.102, 6.202, 6.301, 6.302-1, 6.302-2, 6.302-3, 6.302-5, 6.303-1, 6.303-2, 6.304, 6.401, 6.501, 7.102, 7.103, 7.105, 7.106, 7.107-5, 7.202, 7.203, 7.503, 8.005, 8.402, 8.405-6, 8.701, 8.703, 8.705-2, 8.714, 8.802, 8.1101, 8.1104, 9.102, 9.104-1, 9.104-7, 9.105-1, 9.107, 9.202, 9.204, 9.305, 9.306, 9.308-1, 9.401, 9.403, 9.406-1, 9.406-2, 9.406-3, 9.406-4, 9.407-1, 9.407-2, 9.407-3, 9.502, 9.505, 9.505-1, 9.505-2, 9.505-4, 9.507-1, 9.507-2, 9.508, 9.602, 11.102, 11.201, 11.604, 16.505, 17.703, 19.702, 22.1008-1, 26.205, 30.102, 31.101, 31.205-46, 45.602-3, 50.101-1, 52.212-5 and 53.107.

Dated: March 19, 2019.
William F. Clark,
Director, Office of Government-wide Acquisition Policy, Office of Acquisition Policy, Office of Government-wide Policy.

Federal Acquisition Circular (FAC) 2019-02 is issued under the authority of the Secretary of Defense, the Administrator of General Services, and the Administrator for the National Aeronautics and Space Administration.

Unless otherwise specified, all Federal Acquisition Regulation (FAR) and other directive material contained in FAC 2019-02 is effective May 6, 2019 except for Items I and II, which are effective June 5, 2019.

Dated: March 27, 2019.

Kim Herrington,

Acting Principal Director, Defense Pricing and Contracting.

Dated: March 18, 2019.

Jeffrey A. Koses,

Senior Procurement Executive/Deputy CAO, Office of Acquisition Policy, U.S. General Services Administration.

Dated: March 20, 2019.

William G. Roets, II,

Acting Assistant Administrator, Office of Procurement, National Aeronautics and Space Administration.

[FR Doc. 2019-06621 Filed 5-3-19; 8:45 am]

BILLING CODE 6820-EP-P